TENNESSEE VALLEY AUTHORITY

Meeting of the Regional Energy Resource Council

AGENCY: Tennessee Valley Authority (TVA).

ACTION: Notice of meeting.

SUMMARY: The TVA Regional Energy Resource Council (RERC) will hold a meeting on May 23 and 24, 2022, regarding regional energy related issues in the Tennessee Valley.

DATES: The meeting will be held at Oak Ridge National Laboratory on Monday, May 23, 2022, from 1:00 p.m. to 4:15 p.m. E.T. and Tuesday, May 24, 2022, from 8:15 a.m. to 11:55 a.m. ET. RERC council members are invited to attend the meeting in person or virtually. Due to ongoing concerns with Covid-19, the public is invited to view the meeting virtually and is not invited to attend in person. A 30-minute virtual public listening session will be held May 24, 2022, at 8:30 a.m. A link and instructions to view the meeting will be posted on TVA's RERC website at www.tva.gov/rerc.

ADDRESSES: The meeting will be virtually available to the public. Public members who wish to speak must preregister by 5:00 p.m. E.T. Friday, May 20, 2022, by emailing arfarless@tva.gov. Anyone needing special accommodations should let the contact below know at least one week in advance.

FOR FURTHER INFORMATION CONTACT: Ashley Farless, arfarless@tva.gov or 423-443-7169.

SUPPLEMENTARY INFORMATION: The RERC was established to advise TVA on its energy resource activities and the priorities among competing objectives and values. Notice of this meeting is given under the Federal Advisory Committee Act (FACA), 5 U.S.C. App.2.

The meeting agenda includes the following:

Day 1—May 23

1. Welcome and Introductions

2. RERC and TVA Meeting Update

3. Update on TVA's Emerging Technologies

4. Update on Regional Grid Transformation

5. Update on Innovation Crossroads

6. Update on Decarbonization Technologies

7. Review of Advice Questions

Day 2—May 24

8. Welcome and Review of Day 1

9. Public Listening Session

10. RERC Advice Statement

The RERC will hear views of citizens by providing a 30-minute public comment session starting May 24 at 8:30 a.m. ET. Persons wishing to speak must register at arfarless@tva.gov by 5:00 p.m. EDT, on Friday, May 20, 2022, and will be called on during the public listening session for up to two minutes to share their views. Written comments are also invited and may be emailed to arfarless@tva.gov or mailed to the Regional Energy Resource Council, Tennessee Valley Authority, 400 West Summit Hill Drive, WT 9D, Knoxville Tennessee 37902.

Dated: April 18, 2022.
Melanie Farrell,
Vice President, External Stakeholders and Regulatory Oversight, Tennessee Valley Authority.

[FR Doc. 2022-09310 Filed 4-29-22; 8:45 am]

BILLING CODE 8120-08-P